DEPARTMENT OF TRANSPORTATION

Federal Aviation Administration

14 CFR Part 71

[Docket No. FAA-2011-0376; Airspace Docket No. 10-AEA-11]

RIN 2120-AA66

Amendment and Establishment of Air Traffic Service Routes; Northeast United States

AGENCY: Federal Aviation Administration (FAA), DOT.

ACTION: Final rule.

SUMMARY: This action amends five existing Air Traffic Service (ATS) routes and establishes four new ATS routes. The existing routes being amended are Q-42, J-60, V-16, V-229 and V-449. The new routes are Q-62, Q-406, Q-448 and Q-480. The FAA is taking this action to increase National Airspace System (NAS) efficiency, enhance safety and reduce delays within the New York metropolitan area airspace.

DATES: Effective date 0901 UTC, October 20, 2011. The Director of the Federal Register approves this incorporation by reference action under 1 CFR part 51, subject to the annual revision of FAA Order 7400.9 and publication of conforming amendments.

FOR FURTHER INFORMATION CONTACT: Paul Gallant, Airspace, Regulations and ATC Procedures Group, Office of Airspace Services, Federal Aviation Administration, 800 Independence Avenue, SW., Washington, DC 20591; telephone: (202) 267-8783.

SUPPLEMENTARY INFORMATION:

History

On May 17, 2011, the FAA published in the Federal Register a notice of proposed rulemaking to amend jet route J-60, area navigation (RNAV) route Q-42, and VOR Federal airways V-16, V-229 and V-449 (76 FR 28379). In addition, the FAA proposed to establish four new RNAV routes designated as Q-62, Q-406, Q-448 and Q-480. The changes were proposed to facilitate the routing of westbound air traffic departing the New York metropolitan area and better sequence departing traffic with en route overflight traffic to reduce delays within the New York terminal airspace. Additionally, the changes were designed to more efficiently accommodate aircraft landing within the Potomac Terminal Radar Approach Control (TRACON) airspace.

Interested parties were invited to participate in this rulemaking effort by submitting written comments on the proposal. Forty comments were received.

Discussion of Comments

Comments received fell within three general categories: administrative issues, safety issues and environmental issues.

Administrative Issues

One commenter believed that there was an error in the description of Federal airway V-229 as published in the NPRM. The FAA reviewed the proposed V-229 description and determined that it was correctly published. Several commenters contend that the description of the proposed ATS route changes in the NPRM are not easily understandable to the general public. The FAA does not include a graphic depiction of ATS route proposals in a NPRM because most ATS routes extend for long distances and the reduced scale used by the Federal Register when publishing the graphic would cause the resulting “picture” to be compressed to such a degree that it would provide little value to a commenter. The NPRM for this proposal did include a written description of the changes for each route as well as the “legal description” listing each point that makes up the route. For area navigation (RNAV) routes, the legal description also includes the latitude and longitude of each point. Once the establishment of, or modification of, a route is adopted in a final rule, the route will be illustrated on the appropriate aeronautical chart(s).

Another commenter commented generally that the proposal circumvented the Administrative Procedure Act (APA). The FAA does not agree. The APA (Title 5, U.S.C., section 553) governs the process by which agencies of the Federal government may propose and establish regulations. The FAA has fully complied with APA notice and comment requirements applicable to this rulemaking action.

Safety Issues

Commenters argued that the proposed routes are a danger to the public, that aircraft should not overfly residential areas for safety reasons, and that the redesigned flight paths will strain and subject airports beyond their physical limitations and place the community at risk. The FAA does not agree that the changes adopted in this rule will adversely impact safety. To the contrary, the routes have been carefully designed to enhance the safety and efficiency of air traffic operations. As with other major U.S. cities served by high volume airport(s), the New York metropolitan area is densely populated with residential land uses surrounding all of the major airports. Arrivals into and departures from these airports cannot avoid overflight of all residential areas. The ATS route changes in this route will not put a strain on airport operations or place the surrounding communities at risk. The route changes will, however, serve to increase the safety and efficiency of air traffic operations at the airports as part of a solution to the longstanding issues of air traffic congestion and delays.

Environmental Issues

The majority of the comments received dealt with one or more environmental concerns. Many opposed the changes stating that additional environmental study was required. The FAA does not agree. The National Environmental Policy Act (NEPA) requires the FAA to conduct an environmental review prior to implementing any Federal action, such as the implementation of new or amended air traffic procedures. All of the routes described in this rulemaking were reviewed accordingly. Public comments received in response to the NPRM were considered during this review, as well as the potential for extraordinary circumstances resulting from these new and amended routes.

Others believed that the ATS route changes significantly modify the NY/NJ/PHL Metropolitan Area Airspace Redesign project, approved in 2007. None of the ATS routes contained in this action impact the findings in the NY/NJ/PHL Metropolitan Area Airspace Redesign Environmental Impact Statement (EIS).

Some commenters called for the FAA to conduct an EIS, as was done for the NY/NJ/PHL Metropolitan Area Airspace Redesign, and to obtain air quality sampling information.¹ An EIS is not warranted for these actions because the routes are too high to create a significant noise impact. Furthermore, implementation of the ATS routes in this rule are expected to improve overall fuel savings and therefore, would decrease air quality impacts.

¹ The FAA did prepare an EIS for the NY/NJ/PHL Metropolitan Area Airspace Redesign project. The EIS contained a fuel burn analysis resulting in a “presumed to conform” air quality determination. The FAA also published noise impacts attributed to the NY/NJ/PHL Airspace Redesign project in a report titled “Noise Mitigation Report,” dated April 6, 2007. This report can be found on the project Web site at the following link: http://www.faa.gov/air_traffic/nas_redesign/regional_guidance/eastern_reg/nynjphl_redesign/documentation/media.Noise_Mitigation_Report.pdf.

The five ATS routes that are amended in this rule (J-60, Q-42, Q-406, Q-448 and Q-480) are in the high altitude structure and their lowest base altitude is 18,000 feet MSL.² Since the base altitude of the routes is 18,000 feet MSL, no noise analysis is required. (See 65 FR 76339; December 6, 2000.) Route Q-62 is a new high altitude route which also has a base altitude of 18,000 feet MSL and does not require noise analysis. Additionally, Q-62 overlies an existing jet route J-64. Routes V-16, V-229, and V-449 are existing routes in the low altitude structure. These routes include altitudes between 10,000 and 18,000 feet MSL which are utilized primarily by single-engine propeller-driven aircraft. Because of the altitudes of those routes, no noise analysis is required.³ (See 65 FR 76339; December 6, 2000.)

² These five ATS routes were studied in the NY/NJ/PHL Metropolitan Area Airspace Redesign (EIS).

³ Routes Q-62, V-16, V-229, and V-499 were not included in the NY/NJ/PHL Metropolitan Area Airspace Redesign EIS.

The noise information in the Noise Mitigation Report is not expected to change as a result of this rule because, as previously discussed, the majority of the ATS changes in this rule occur above 10,000 feet MSL. Additionally, both V-16 and V-229 were realigned slightly in order to provide airspace for aircraft departing John F. Kennedy International Airport (JFK) to conduct unrestricted climbs to their en route altitudes. This change not only reduces noise in areas surrounding JFK by getting aircraft to higher altitudes faster, it also helps to deconflict air traffic.

Some communities felt that they are unfairly impacted by low flying aircraft and that traffic should be spread by using other airways. The area near LaGuardia Airport (LGA) was cited as an example. It should be emphasized that the ATS route changes in this rule will not result in additional air traffic volume. Instead, the routes are designed to provide operational improvements in the existing en route airway structure to handle existing air traffic in a safe and more efficient manner. Further, these route changes do not change the flight tracks into and out of LGA. The FAA reviewed LGA's arrival and departure flight tracks and found that procedures in use at LGA have not undergone any significant changes since October 2007. The arrival and departure routes for LGA (and any other airport) depend on a variety of factors including: runway in use, weather, the aircraft's destination, the proximity of other airports and air traffic to and from those airports. The procedures that take departing aircraft from the runway up to join their intended airway in the en route structure, or bring arriving aircraft down from the en route airway structure to the runway, are designed to maintain safety and efficiency. This is especially important in a complex airspace area, such as New York with its several major airports (JFK, LGA, Newark-Liberty International, etc.) being in such close proximity.

The amendments to these ATS routes do not trigger any extraordinary circumstances, and therefore an environmental assessment is not warranted. The FAA has determined that this action is categorically excluded in accordance with FAA Order 1050.1E, paragraphs 311a, 311b and 311i.

Differences From NPRM

There are no changes to the descriptions of ATS Routes Q-42, Q-62, V-16, and V-229 from that published in the NPRM. Minor changes or edits were made to J-60, Q-406, Q-480 and Q-448, as described below. J-60 has been modified slightly from the proposal. The position of the dog-leg referenced in the NPRM (northwest of East Texas, PA VOR/DME) was moved 0.3 nautical miles southeast of the proposed position along the path of the original J-60. From this point, the airway turns and proceeds directly to the SPARTA VORTAC. This caused the NEWEL intersection (SPARTA, NJ 253° radial and the Broadway, NJ 295° radial) to be moved 0.58 nautical miles to the southeast. These changes simplify navigation by creating a single dog-leg, removing all references to Ravine, PA and the Broadway, NJ and using only the Philipsburg, PA and Sparta, NJ bearings as a reference for this portion of the airway.

An editorial change is made to Q-406 and Q-448 by changing the name of one waypoint in the description from JEETR to DBABE. After publication of the NPRM, it was found that a similar sounding fix (JETER) already existed in the NAS within 120 miles of the proposed JEETR. To avoid confusion, and in the interest of safety, the waypoint name change is being made. It is important to note that the latitude and longitude of this waypoint did not change from that set forth in the NPRM and, therefore, the alignment of Q-406 and Q-448 remains the same as proposed.

A minor change to the position of the CANDR waypoint affects the description of Q-480. The proposed position of CANDR was lat. 40°58′02″ N., long. 74°57′30″ W. As a result of refinements aligning CANDR as an intersection on J-60, Q-480 and the DEEZZ Standard Instrument Departure Procedure, the latitude/longitude position of CANDR was adjusted by 0.38 nautical miles. The revised CANDR coordinates are lat. 40°57′59.35″ N., long. 74°57′28.70″ W.

Due to rounding, the CANDR coordinates in the Q-480 legal description are lat. 40°57'59”N., long. 74°57'29”W.

The routing of V-449 differs from the NPRM in that the proposed segment that extended between the Selinsgrove, PA VORTAC and the Milton, PA VORTAC has been deleted. Flight inspection of that segment could not be completed in the allotted time, so the segment is being deleted from the route description.

The Rule

This action amends Title 14 Code of Federal Regulation (14 CFR) part 71 by modifying existing routes J-60, Q-42, V-16, V-229 and V-449. J-60 is realigned to help reduce congestion and converging en route aircraft flows, and to mitigate a choke point over the existing ELIOT departure fix.

RNAV route Q-42 is amended by deleting the current segments between the BRNAN, PA, waypoint (WP) and ELIOT, PA, WP and replacing them with segments extending from BRNAN WP to new WPs HOTEE, PA; BTRIX, PA; SPOTZ, PA, and terminating at a new waypoint ZIMMZ, NJ. This change will also help reduce converging flows and congestion.

VOR Federal airways V-16 and V-229 are amended by inserting a dogleg north of their present courses by following the Kennedy VOR/DME 040° radial northeast of Kennedy VOR/DME. V-16 then turns east bound, bypassing the Deer Park VOR/DME, then proceeds to the Calverton VOR/DME and resumes its current course. V-229 is also modified along the Kennedy VOR/DME 040° radial, then turns eastbound to re-intercept its current course toward the Bridgeport, CT, VOR/DME. The V-16 and V-229 changes are intended to free up airspace to accommodate a climb corridor for John F. Kennedy International Airport (JFK) departures.

V-449, which currently extends between the Lake Henry, PA, VORTAC and the Albany, NY, VORTAC, is lengthened westward by adding a new segment that extends between the Milton, PA, VORTAC and the Lake Henry, PA, VORTAC. This change will facilitate routing for arrivals into La Guardia Airport.

Four new RNAV routes are being established and designated as Q-62, Q-406, Q-448 and Q-480. Q-62 will enhance westward flows, reduce congestion and provide flexibility for aircraft entering the Cleveland ARTCC area and routings toward Chicago.

Q-406, Q-448 and Q-480, along with the amended Q-42, will reduce current converging en route flows that result from dependency on ground-based navigation aids. The new Q-route segments will permit some alignment with New York departure fixes NEWEL, CANDR and ZIMMZ. These new fixes will be used for departures from the New York metropolitan area airports to transition and merge aircraft from the terminal structure into the high altitude en route structure and vice versa. In addition, the new routes will relieve congestion by providing alternate routings for aircraft landing at airports outside the New York Metropolitan area.

Jet routes are published in paragraph 2004, high altitude RNAV routes are published in paragraph 2006, and VOR Federal airways are published in paragraph 6010, respectively, of FAA Order 7400.9V dated August 9, 2011, and effective September 15, 2011, which is incorporated by reference in 14 CFR 71.1. The jet routes, high altitude RNAV routes and VOR Federal airways listed in this document will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation because the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority because it modifies the route structure of Jet Routes as required to preserve the safe and efficient flow of air traffic.

Radials listed in this rule are expressed in degrees relative to True North.

Environmental Review

The FAA has determined that this action is categorically excluded from further environmental documentation according to FAA Order 1050.1E, paragraph 311a, 311b, and 311i. The implementation of this action will not result in any extraordinary circumstances in accordance with paragraph 304 of Order 1050.1E.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9V, Airspace Designations and Reporting Points, dated August 9, 2011 and effective September 15, 2011, is amended as follows:

Paragraph 2004 Jet Routes

* * * * *

J-60 [Amended]

From Los Angeles, CA; via Paradise, CA; Hector, CA; Boulder City, NV; Bryce Canyon, UT; Hanksville, UT; Red Table, CO; Mile High, CO; Hayes Center, NE; Lincoln, NE; Iowa City, IA; Joliet, IL; Goshen, IN; DRYER, OH; Philipsburg, PA; INT Philipsburg 100° and Sparta, NJ, 253° radials to Sparta, NJ.

* * * * *

Paragraph 2006 United States Area Navigation Routes

* * * * *

Q42 Kirksville, MO (IRK) to ZIMMZ, NJ [Amended]
Kirksville, MO (IRK) | VORTAC | (Lat. 40°08′06″ N., long. 92°35′30″ W.)
STRUK, IL | WP | (Lat. 40°14′04″ N., long. 90°18′22″ W.)
Danville, IL (DNV) | VORTAC | (Lat. 40°17′38″ N., long. 87°33′26″ W.)
Muncie, IN (MIE) | VOR/DME | (Lat. 40°14′14″ N., long. 85°23′39″ W.)
HIDON, OH | WP | (Lat. 40°10′00″ N., long. 81°37′27″ W.)
BUBAA, OH | WP | (Lat. 40°10′27″ N., long. 80°58′17″ W.)
PSYKO, PA | WP | (Lat. 40°08′37″ N., long. 79°09′13″ W.)
BRNAN, PA | WP | (Lat. 40°08′07″ N., long. 77°50′07″ W.)
HOTEE, PA | WP | (Lat. 40°20′36″ N., long. 76°29′37″ W.)
BTRIX, PA | WP | (Lat. 40°36′06″ N., long. 75°49′11″ W.)
SPOTZ, PA | WP | (Lat. 40°45′55″ N., long. 75°22′59″ W.)
ZIMMZ, NJ | WP | (Lat. 40°48′11″ N., long. 75°07′25″ W.)
* * * * * * *
Q62 NOLNN, OH to SARAA, PA [New]
NOLNN, OH | WP | (Lat. 41°14′04″ N., long. 84°38′12″ W.)
WEEVR, OH | WP | (Lat. 41°13′21″ N., long. 84°13′04″ W.)
PSKUR, OH | WP | (Lat. 41°09′16″ N., long. 82°42′57″ W.)
FAALS, OH | WP | (Lat. 41°02′51″ N., long. 80°52′40″ W.)
ALEEE, OH | WP | (Lat. 41°00′28″ N., long. 80°31′54″ W.)
QUARM, PA | WP | (Lat. 40°49′45″ N., long. 79°04′39″ W.)
BURNI, PA | FIX | (Lat. 40°39′25″ N., long. 77°48′14″ W.)
MCMAN, PA | FIX | (Lat. 40°38′16″ N., long. 77°34′14″ W.)
VALLO, PA | FIX | (Lat. 40°37′37″ N., long. 77°26′18″ W.)
Ravine, PA (RAV) | VORTAC | (Lat. 40°33′12″ N., long. 76°35′58″ W.)
SUZIE, PA | FIX | (Lat. 40°27′12″ N., long. 75°58′22″ W.)
SARAA, PA | FIX | (Lat. 40°26′22″ N., long. 75°53′16″ W.)
Q406 Broadway, NJ (BWZ) to Barnes, MA (BAF) [New]
Broadway, NJ (BWZ) | VOR/DME | (Lat. 40°47′54″ N., long. 74°49′19″ W.)
DBABE, NY | WP | (Lat. 41°08′30″ N., long. 74°05′46″ W.)
BASYE, NY | FIX | (Lat. 41°20′37″ N., long. 73°47′55″ W.)
TRIBS, CT | WP | (Lat. 41°39′29″ N., long. 73°19′03″ W.)
BIGGO, CT | FIX. | (Lat. 41°57′21″ N., long. 73°04′05″ W.)
Barnes, MA (BAF) | VORTAC | (Lat. 42°09′43″ N., long. 72°42′58″ W.)
Q448 Pottstown, PA (PTW) to Barnes, MA (BAF) [New]
Pottstown, PA (PTW) | VORTAC | (Lat. 40°13′20″ N., long. 75°33′37″ W.)
LANNA, NJ | FIX | (Lat. 40°33′35″ N., long. 75°01′40″ W.)
DBABE, NY | WP | (Lat. 41°08′30″ N., long. 74°05′46″ W.)
BASYE, NY | FIX | (Lat. 41°20′37″ N., long. 73°47′55″ W.)
TRIBS, CT | WP | (Lat. 41°39′29″ N., long. 73°19′03″ W.)
BIGGO, CT | FIX. | (Lat. 41°57′21″ N., long. 73°04′05″ W.)
Barnes, MA (BAF) | VORTAC | (Lat. 42°09′43″ N., long. 72°42′58″ W.)
Q480 ZANDR, OH to Kennebunk, ME (ENE) [New]
ZANDR, OH | FIX | (Lat. 40°00′19″ N., long. 81°31′58″ W.)
Bellaire, OH (AIR) | VOR/DME | (Lat. 40°01′01″ N., long. 80°49′02″ W.)
LEJOY, PA | FIX | (Lat. 40°00′12″ N., long. 79°24′54″ W.)
VINSE, PA | FIX | (Lat. 39°58′16″ N., long. 77°57′21″ W.)
BEETS, PA | WP | (Lat. 39°57′20″ N., long. 77°26′59″ W.)
HOTEE, PA | WP | (Lat. 40°20′36″ N., long. 76°29′37″ W.)
BTRIX, PA | WP | (Lat. 40°36′06″ N., long. 75°49′11″ W.)
SPOTZ, PA | WP | (Lat. 40°45′55″ N., long. 75°22′59″ W.)
CANDR, NJ | WP | (Lat. 40°57′59″ N., long. 74°57′29″ W.)
JEFFF, NJ | WP | (Lat. 41°14′46″ N., long. 74°27′43″ W.)
Kingston, NY (IGN) | VOR/DME | (Lat. 41°39′56″ N., long. 73°49′20″ W.)
LESWL, CT | WP | (Lat. 41°53′31″ N., long. 73°19′20″ W.)
Barnes, MA (BAF) | VORTAC | (Lat. 42°09′43″ N., long. 72°42′58″ W.)
Kennebunk, ME (ENE) | VORTAC | (Lat. 43°25′32″ N., long. 70°36′49″ W.)

* * * * *

Paragraph 6010 VOR Federal Airways

V-16 [Amended]

From Los Angeles, CA; Paradise, CA; Palm Springs, CA; Blythe, CA; Buckeye, AZ; Phoenix, AZ; INT Phoenix 155° and Stanfield, AZ, 105° radials; Tucson, AZ; Cochise, AZ; Columbus, NM; El Paso, TX; Salt Flat, TX; Wink, TX; INT Wink 066° and Big Spring, TX, 260° radials; Big Spring; Abilene, TX; Bowie, TX; Bonham, TX; Paris, TX; Texarkana, AR; Pine Bluff, AR; Marvell, AR; Holly Springs, MS; Jacks Creek, TN; Shelbyville, TN; Hinch Mountain, TN; Volunteer, TN; Holston Mountain, TN; Pulaski, VA; Roanoke, VA; Lynchburg, VA; Flat Rock, VA; Richmond, VA; INT Richmond 039° and Patuxent, MD, 228° radials; Patuxent; Smyrna, DE; Cedar Lake, NJ; Coyle, NJ; INT Coyle 036° and Kennedy, NY, 209° radials; Kennedy; INT Kennedy 040° and Calverton, NY, 261° radials; Calverton; Norwich, CT;

Boston, MA. The airspace within Mexico and the airspace below 2,000 feet MSL outside the United States is excluded. The airspace within Restricted Areas R-5002A, R-5002C, and R-5002D is excluded during their times of use. The airspace within Restricted Areas R-4005 and R-4006 is excluded.

V-229 [Amended]

From Patuxent, MD; INT Patuxent 036° and Atlantic City, NJ, 236° radials; Atlantic City; INT Atlantic City 055° and Colts Neck, NJ, 181° radials; INT Colts Neck 181° and Kennedy, NY, 209° radials; Kennedy; INT Kennedy 040° and Calverton, NY, 261° radials; INT Calverton 261° and Kennedy 053° radials; INT Kennedy 053° and Bridgeport, CT, 200° radials; Bridgeport; Hartford, CT; INT Hartford 040° and Gardner, MA, 195° radials; Gardner; Keene, NH; INT Keene 336° and Burlington, VT, 160° radials; to Burlington. The airspace within R-5002B is excluded during times of use. The airspace below 2,000 feet MSL outside the United States is excluded.

V-449 [Amended]

From Milton, PA; INT Milton 064° and Williamsport, PA 109° radials; Lake Henry, PA; DeLancey, NY; Albany, NY.

Issued in Washington, DC on September 12, 2011.
Gary A. Norek,
Acting Manager, Airspace, Regulations and ATC Procedures Group.

[FR Doc. 2011-23839 Filed 9-16-11; 8:45 am]

BILLING CODE 4910-13-P